POSTAL REGULATORY COMMISSION

39 CFR Part 3050

[Docket No. RM2009-5; Order No. 229]

Periodic Reporting Rules

AGENCY: Postal Regulatory Commission.

ACTION: Proposed rule; availability of rulemaking petition.

SUMMARY: Under a new law, the Postal Service must file an annual compliance report with the Postal Regulatory Commission on costs, revenues, rates and quality of service associated with its products. It has filed a petition with the Commission to consider a change in the analytical methods approved for use in periodic reporting. This document provides an opportunity for the public to comment on potential changes in periodic reporting rules.

DATES: Comments are due by July 15, 2009.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: On June 22, 2009, the Postal Service filed a petition to initiate an informal rulemaking proceeding to consider a change in the analytical methods approved for use in periodic reporting.¹ The Postal Service proposes to reduce the size of the sample that it uses to collect Origin-Destination Information System/Revenue Pieces and Weight (ODIS/RPW) data by 20 percent starting in the first quarter of FY 2010. The Petition explains that the Postal Service intends to eliminate 25,600 tests, thereby saving approximately $6 million annually. It asserts that the reduction in accuracy of the data collected is small and should be acceptable in view of the expense that it would avoid. In support of this assertion, the Petition includes two tables. Table 1 shows the estimated impact of the proposed reduction in sample size on the coefficients of variation (CVs) for volume and for revenue for the major categories of single-piece mail. Table 2 shows the estimated impact on the CVs for unit volume variable costs for those same categories of single-piece mail. The attachment to the Postal Service's Petition explains its proposal in more detail, including its background, objective, rationale, and estimated impact.

¹ Petition of the United States Postal Service Requesting Initiation of a Proceeding To Consider Proposed Change in Analytic Principles (Proposal One), June 22, 2009 (Petition).

It is Ordered:

1. Petition of the United States Postal Service Requesting Initiation of a Proceeding to Consider Proposed Change in Analytic Principles (Proposal One), filed June 22, 2009, is granted.

2. The Commission establishes Docket No. RM2009-5 to consider the matters raised by the Postal Service's Petition.

3. Interested persons may submit initial comments on or before July 15, 2009.

4. The Commission will determine the need for reply comments after review of the initial comments.

5. Diane Monaco is designated to serve as the Public Representative representing the interests of the general public in this proceeding.

6. The Secretary shall arrange for publication of this Notice in the Federal Register.

Authority: 39 U.S.C. 3652.

By the Commission.
Steven W. Williams,
Secretary.

[FR Doc. E9-15499 Filed 6-30-09; 8:45 am]

BILLING CODE 7710-FW-P